FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on a proposed extension of a collection of information. In accordance with the Paperwork Reduction Act of 1995 (44 U.S.C. 3506(c)(2)(A)), this notice seeks comments concerning requests for a major disaster or an emergency declaration by the President.

SUPPLEMENTARY INFORMATION: The Robert T. Stafford Disaster Relief and Emergency Assistance Act, 42 U.S.C. 5121-5206, as amended (the Stafford Act), requires that all requests for a major disaster or an emergency declaration by the President must be made by the Governor of the affected State. Section 401 of the Act stipulates specific information the Government must submit with a request for any major disaster declaration. Section 501(a) of the Act stipulates specific information the Governor must submit with a request for any emergency declaration. Section 403(c) of the Act authorizes emergency assistance, without a Presidential declaration, through the utilization of Department of Defense personnel and resources. Information needed to process the request from the Governor is set forth in 44 CFR part 206.35 and 206.36.

Collection of Information

Title: The Declaration Process: Requests for Damage Assessment, Federal Disaster Assistance, Cost Share Adjustment, and Loans of the Non-Federal Share.

Type of Information Collection: Extension of a currently approved collection.

Abstract: When a disaster occurs in a State, the Governor of the State or the Acting Governor in his/her absence, may request a major disaster declaration. The Governor should submit the request to the President through the appropriate Regional Director to ensure prompt acknowledgement and processing. The information obtained by State damage assessments will be analyzed by FEMA Regional senior level staff. The Regional analysis shall include a discussion of State and local resources and capabilities, and other assistance available to met the disaster related needs. The Director of FEMA forwards the Governor's request to the President, with a FEMA report and recommendations. In the event the information required by law is not contained in the request, the Governor's request cannot be processed and forwarded to the White House. The Governor may appeal the decision.

Affected Public: Individual or households, not-for-profit institutions, State, local or tribal government, business or other for-profit, farms, and the Federal government.

Number of Respondents: The number of respondents for the information collections is 58 to include the Governors of the 50 states, the District of Columbia, Puerto Rico, the Virgin Islands, Guam, American Samoa, the Commonwealth of the Northern Marianna Islands, and Federal States of Micronesia, and the Republic of the Marshall Islands.

Frequency of Response: Per declaration.

Hours per Response: 76 hours per response.

Estimated Total Annual Burden Hours: 13,224.

Estimated Cost: The estimated annualized cost per respondent is $30.00 per hour for gathering preliminary assessments information × 13,244 total burden hours = $97,200. The estimated annualized cost to the Federal government is 5 FEMA senior level staff salary @ approximately $110,000 = $550,000 × 13,244 total burden hours = $72,842,000.

Comments: Written comments are solicited to: Evaluate whether the proposed data collection is necessary for the proper performance of the agency, including whether the information shall have practical utility; evaluate the accuracy of the agency's estimate of the burden of the proposed collection of information, including the validity of the methodology and assumptions used; enhance the quality, utility, and clarity of the information to be collected; and minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Information Resources Management Division, Information Technology Services Directorate, Federal Emergency Management Agency, 500 C Street, SW., Room 316, Washington, DC 20472.

FOR FURTHER INFORMATION CONTACT: For additional information concerning the collection of information contact Magdalena M. Ruiz, Chief, Declaration and Administrative Branch, Federal Emergency Management Agency, 500 C Street, SW., Washington, DC 20472. Telephone number (202) 646-3629. You may contact Ms. Anderson for copies of the proposed collection of information at facsimile number (202) 646-3347 or email address: Information.Collections@fema.gov.

Dated: February 5, 2003.
Edward W. Kernan,
Division Director, Information Resources Management Division, Information Technology Directorate.

[FR Doc. 03-3674 Filed 2-13-03; 8:45 am]

BILLING CODE 6718-01-P